DEPARTMENT OF COMMERCE

Foreign-Trade Zones Board

[B-14-2025]

Foreign-Trade Zone (FTZ) 89, Notification of Proposed Production Activity; GPI Beauty, Inc.; (Plastic Tube Sleeves); Las Vegas, Nevada

The Federal Register notice published on March 10, 2025 (90 FR 11600) regarding the notification of proposed production activity for GPI Beauty, Inc., located in Las Vegas, Nevada, is corrected as follows:

In the title and first sentence of the notice, the city name should read “Las Vegas.”

For further information, contact Christopher Wedderburn at Chris.Wedderburn@trade.gov.

Dated: March 10, 2025.
Elizabeth Whiteman,
Executive Secretary.

[FR Doc. 2025-04091 Filed 3-13-25; 8:45 am]

BILLING CODE 3510-DS-P